INTERNATIONAL TRADE COMMISSION

[Investigation No. 731-TA-377 (Review)]

Internal Combustion Industrial Forklift Trucks From Japan

AGENCY: United States International Trade Commission.

ACTION: Cancellation of the hearing and revision of the schedule of a full five-year review concerning the antidumping duty order on internal combustion industrial forklift trucks from Japan.

EFFECTIVE DATE: January 28, 2000.

FOR FURTHER INFORMATION CONTACT: Christopher J. Cassise (202-708-5408), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION:

Background

On August 27, 1999 (64 FR 46952), the Commission published a notice in the Federal Register scheduling a full five-year review concerning the antidumping duty order on internal combustion industrial forklift trucks from Japan. The schedule provided for a public hearing on January 25, 2000. Requests to appear at the hearing were filed with the Commission on behalf of NACCO Materials Handling Group and on behalf of Clark Material Handling Co. However, the Federal Government was closed on January 25, 2000, because of snow and so the Commission hearing was not held as scheduled. Subsequently, each of the parties requesting to appear at the hearing withdrew their request. Since there are no current requests by interested parties to appear at a public hearing, the Commission determined to cancel, instead of reschedule, the public hearing on internal combustion industrial forklift trucks from Japan and provide those parties scheduled to appear an opportunity to present written testimony. The Commission unanimously determined that no earlier announcement of this cancellation was possible.

The Commission's new schedule for the review is as follows: the deadline for filing posthearing briefs is February 15, 2000; the Commission will make its final release of information on March 9, 2000; and final party comments are due on March 13, 2000.

For further information concerning the review, see the Commission's notice cited above and the Commission's Rules of Practice and Procedure, part 201, subparts A through E (19 CFR part 201), and part 207, subparts A and F (19 CFR part 207).

Authority: This review is being conducted under authority of title VII of the Tariff Act of 1930; this notice is published pursuant to sections 201.35 and 207.62 of the Commission's rules.

Issued: January 31, 2000.
By order of the Commission.
Donna R. Koehnke,
Secretary.

[FR Doc. 00-2524 Filed 2-3-00; 8:45 am]

BILLING CODE 7020-02-U